DEPARTMENT OF HEALTH AND HUMAN SERVICES

Health Resources and Services Administration

Notification of Lender and Servicer Eligibility Criteria for Participation in the Health Center Loan Guarantee Program

AGENCY: Health Resources and Services Administration (HRSA), Department of Health and Human Services.

ACTION: Request for public comment.

SUMMARY: This notice seeks public comment to update the Health Center Loan Guarantee Program lender and servicer eligibility criteria in accordance with OMB Circular A-129. The original notice of lender eligibility criteria for the Health Center Loan Guarantee Program was published in the Commerce Business Daily on January 7, 2000.

DATES: Submit comments no later than May 20, 2024.

ADDRESSES: Electronic or written comments should be submitted through the Bureau of Primary Health Care (BPHC) Contact Form (new users must request access) or to 5600 Fishers Lane, Rm. 16N-20, Rockville, MD 20857, no later than 30 days after the publication date.

FOR FURTHER INFORMATION CONTACT: Mary Lou Ojeda, Lead Public Health Analyst, or Valerie Green, Loan Specialist, BPHC, Office of Policy and Program Development, Strategic Initiatives, HRSA, 5600 Fishers Lane, Rm. 16N-20, Rockville, MD 20857, 301-594-4300, or the BPHC Contact Form.

SUPPLEMENTARY INFORMATION: Title XVI, part A of the Public Health Service Act established the authority for the Department of Health and Human Services to guarantee the principal and interest on certain loans made by non-Federal lenders. Under this authority, the Health Center Loan Guarantee Program guarantees up to 80 percent of the outstanding principal and interest on eligible loans for the construction, renovation, and modernization of medical facilities that are operated by health centers funded under the Public Health Service Act. These health centers, which are community-based private nonprofit or public entities, provide primary health care services for medically underserved populations. The approximately 1,400 organizations that receive funding are located in urban and rural communities throughout the nation.

HRSA's BPHC administers the Health Center Loan Guarantee Program, which has a total current lending authority of $825 million. Under the Program, lender and servicer eligibility requirements have been established, with participation open to eligible non-Federal lenders. Consistent with the policies set forth in OMB Circular A-129, this notice provides interested parties information regarding eligibility criteria for participating as a lender or servicer in the Loan Guarantee Program. Specifically, to participate in the Program, a lender or servicer must: (a) Be regulated or certified and in good standing with a Federal financial institution regulatory agency, or furnish satisfactory evidence of adequate financial and capital condition showing that the lender has (i) a minimum adjusted net worth of $250,000, or (ii) at least $50,000 in working capital plus 1 percent of the total volume in excess of $25 million in guaranteed loans originated, serviced, or purchased during the lender's prior fiscal year, up to a maximum required adjusted net worth of $2.5 million, and one or more lines of credit with a minimum aggregated of $1 million; (b) Not be currently debarred or suspended from participation in any United States government contract or delinquent on a debt owed to the United Stated government or any agency or instrumentality thereof; (c) Be able to obtain and submit proof of fidelity/surety bonding and/or errors and omissions insurance with the Federal Government as a loss payee if the lender has previously had questionable performance under Federal guarantee programs or is not regulated by the Federal Government or certified by the U.S. Department of the Treasury; (d) Provide, if so requested, the qualifications of principal officers and staff of the lender or servicer who will be or are responsible for the administration of the loan(s) guaranteed under the Program showing that principal officers have a minimum of 2 years of experience in originating or servicing guaranteed loans; (e) Provide, if the lender or servicer has one or more loans guaranteed under the Program, proof of acceptable performance as a lender or servicer, which shall include for each and every loan adherence to all the terms and conditions as set forth in the agreement between HRSA and the lender or servicer; and (f) Be able to demonstrate the capacity to hold and account for loan documents, receive all payments of principal and interest, and otherwise service and administer the loan in a manner consistent with accepted standards of loan servicing employed by prudent lenders or servicers generally. A lender or servicer's eligibility for participation in additional loans guaranteed under the Program will be newly assessed and reviewed at each application submission during the application financial sustainability and viability technical review and at least every 2 years in accordance with monitoring and evaluation procedures.

Maria G. Button,
Director, Executive Secretariat.

[FR Doc. 2024-08219 Filed 4-17-24; 8:45 am]

BILLING CODE 4165-15-P